DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on November 10, 1999 [64 FR 61378-61379].

DATES: Comments must be submitted on or before May 26, 2000.

ADDRESSES: Send comments, within 30 days, to the Office of Information and Regulatory Affairs, Office of Management and Budget, 725-17th Street, NW, Washington, DC 20503, Attention NHTSA Desk Officer.

FOR FURTHER INFORMATION CONTACT: John F. Oates at the National Highway Traffic Safety Administration, Office of State and Community Services (NSC-01), 202-366-2730, 400 Seventh Street, SW, Room 5238, Washington, DC 20590.

SUPPLEMENTARY INFORMATION:

National Highway Traffic Safety Administration

Title: 23 CFR part 1335 State Highway Safety Data and Traffic Records.

OMB Number: 2127—NEW.

Type of Request: New information collection.

Abstract: The Transportation Equity Act for the 21st Century, signed into law on June 1998. Established a New Section 411, entitled State Highway Safety Data Improvements. Under this provision, states may qualify for incentive grant funds by adapting and implementing effective highway safety data and traffic records improvement programs which meet specified statutory criteria. The program identifies three basic records system components, all of which must be present if the state is to retrieve multiple-year grants: (1) A committee to coordinate the development and use of highway safety data and traffic records; (2) a systematic assessment of the state's highway safety data and traffic records; and, (3) a strategic plan for the continued improvement of highway safety data and traffic records.

Affected Public: Those state, local, and tribal government officials applying for incentive grant funds.

Estimated Total Annual Burden: 114.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology.

A Comment to OMB is most effective if OMB receives it within 30 days of publication.

Issued in Washington, DC, on April 19, 2000.
Herman L. Simms,
Associate Administrator for Administration.

[FR Doc. 00-10440 Filed 4-25-00; 8:45 am]

BILLING CODE 4910-59-P